DEPARTMENT OF HEALTH AND HUMAN SERVICES

Centers for Disease Control and Prevention

[30Day-17-0770]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

National HIV Behavioral Surveillance System ((NHBS), OMB Control No. 0920-0770, exp. 03/31/2017)—Revision—National Center for HIV, Hepatitis, STD, and TB Prevention (NCHHSTP), Centers for Disease Control and Prevention (CDC).

Background and Brief Description

The CDC currently sponsors the National HIV Behavioral Surveillance (NHBS) System. The system is designed to describe and monitor the HIV risk behaviors, HIV seroprevalence and incidence, and HIV prevention experiences of persons at highest risk for HIV infection in the United States. NHBS awardees are state and local health departments that provide HIV-related services, conduct NHBS interviews, and submit non-identifiable information to CDC. To be eligible for NHBS funding, a health department must serve one of the 30 Metropolitan Statistical Areas (MSA) in the U.S. with high HIV prevalence. Twenty-two (22) programs receive NHBS funding and technical assistance from CDC at this time. Burden estimates are based on current availability of funds and recruitment targets for 22 CDC-funded NHBS awardees. If additional funding is received to support the participation of additional sites, CDC will submit a Change Request to make the appropriate adjustments to the total estimated annualized burden.

Information collection is based on rotating annual “cycles” of surveillance with three populations: Men who have sex with men (MSM), injecting drug users (IDUs), and heterosexuals at increased risk of HIV (HET). Screening interviews and specialized behavioral assessment interviews are conducted once every three years with each population: MSM in year 1, IDU in year 2, and HET in year 3. The target number of annual interviews for each NHBS-funded awardee is 500. Due to differences in the risk characteristics of the MSM, IDU and HET groups, the behavioral assessment is customized for each group. In addition, an HIV test and pre-test counseling session are offered to all persons who participate in an NHBS interview.

The surveillance system is focused on behaviors directly related to HIV transmission and those that are amenable to intervention through prevention programs. Information collected through the NHBS System allows CDC to: (a) Describe the prevalence of and trends in risk behaviors; (b) describe the prevalence of and trends in HIV testing and HIV infection; (c) describe the prevalence of and trends in use of HIV prevention services; and (d) identify met and unmet needs for HIV prevention services in order to inform health departments, community-based organizations, community planning groups and other stakeholders. No other federal agency systematically collects this type of information from persons at risk for HIV infection.

Venue-based sampling methods are used to identify respondents for the MSM information collection cycle and respondent-driven sampling methods are used to identify respondents for the IDU cycle and the HET cycle. Consistent with these methods, persons who participate in the IDU and HET interviews may be trained to recruit additional respondents. Each person who serves as a peer recruiter will be asked to participate in a short debriefing interview.

CDC requests OMB approval to continue information collection for three years, with revisions. Selected questions in the eligibility screener and the behavioral assessment interview instruments will be updated to improve usability and data quality, and new questions will be added to provide measures of high priority emerging issues including pre-exposure prophylaxis, treatment as prevention, and opioid use and abuse. Lower priority questions and repetitive content will be deleted in order to manage project cost and respondent burden. There are no changes to the estimated burden per response for any information collection instrument. However, total burden will decrease due to a reduction in the number of health departments funded to participate in the NHBS System (from 25 to 22). Compared to the previous period of OMB approval, this will reduce the total estimated number of interviews for each cycle from 12,500 (4,167 annualized) to 11,000 (3,667 annualized).

Information collected through the NHBS has a substantial impact on the design and delivery of targeted prevention programs aimed at reducing new HIV infections and evaluating progress towards national public health goals. Participation is voluntary and there is no cost to respondents other than their time. The total estimated annualized burden hours are 8,735.

Estimated Annualized Burden Hours
Type of respondent | Form name | Number of respondents | Number of responses per respondent | Average burden per response (in hr)
Persons Screened | Eligibility Screener | 13,142 | 1 | 5/60
Eligible Participants | Behavioral Assessment for MSM | 3,667 | 1 | 30/60
| Behavioral Assessment for IDU | 3,667 | 1 | 54/60
| Behavioral Assessment for HET | 3,667 | 1 | 39/60
Peer Recruiters | Recruiter Debriefing | 3,667 | 1 | 2/60

Leroy A. Richardson,
Chief, Information Collection Review Office, Office of Scientific Integrity, Office of the Associate Director for Science, Office of the Director, Centers for Disease Control and Prevention.

[FR Doc. 2016-29399 Filed 12-7-16; 8:45 am]

BILLING CODE 4163-18-P